DEPARTMENT OF AGRICULTURE

Food and Nutrition Service

Agency Information Collection Activities: Supplemental Nutrition Assistance Program (SNAP): A Review of Major Changes in Program Design and Management Evaluation Systems

AGENCY: Food and Nutrition Service (FNS), United States Department of Agriculture (USDA).

ACTION: Notice.

SUMMARY: In accordance with the Paperwork Reduction Act of 1995, this notice invites the general public and other public agencies to comment on this proposed information collection. This is a revision of a currently approved collection. This information collection is associated with State agencies' notification and data collection activities associated with Supplemental Nutrition Assistance Program review of major changes in program design at the State level.

DATES: Written comments must be received on or before March 9, 2026.

ADDRESSES: Comments may be sent to: Sasha Gersten-Paal, Director, Program Development Division, Food and Nutrition Service, U.S. Department of Agriculture, 1320 Braddock Place, 5th Floor, Alexandria, VA 22314. Comments may also be submitted via email to sasha.gersten-paal@usda.gov. Comments will also be accepted through the Federal eRulemaking Portal. Go to http://www.regulations.gov, and follow the online instructions for submitting comments electronically. All responses to this notice will be summarized and included in the request for Office of Management and Budget approval. All comments will be a matter of public record.

FOR FURTHER INFORMATION CONTACT: Requests for additional information or copies of this information collection should be directed to Sasha Gersten-Paal at 703-305-2507.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: A Review of Major Changes in Program Design and Management Evaluation Systems.

Form Number: N/A.

OMB Control Number: 0584-0579.

Expiration Date: 5/31/2026.

Type of Request: Revision of a currently approved collection.

Abstract: Section 11 of the Food and Nutrition Act of 2008 (the Act) (7 U.S.C. 2020), as amended, requires the United States Department of Agriculture (USDA), Food and Nutrition Service (FNS) to develop standards for identifying major changes in the operations of State agencies that administer SNAP. Regulations at 7 CFR 272.15 require State agencies to notify the FNS when planning to implement a major change in operations and to collect any information required by FNS to identify and correct any adverse effects on program integrity or access. 7 CFR 272.15(a)(2) outlines the categories of major changes to include: the closure of a local office, substantial increased reliance on automated systems, changes in operations that potentially increase difficulty for household reporting, the reduction or change of functions or responsibilities assigned to merit system personnel, a decrease in the number of merit system personnel involved in the SNAP certification process, or other major changes identified by FNS.

FNS is requesting to increase the burden estimates to account for increased reliance on automated systems, such as robotic process automation (RPA) or bots as a result of FNS' January 10, 2024, guidance on the use of advanced automation in SNAP. FNS is also requesting to increase burden estimates to account for State agencies implementing major changes in non-merit personnel, in response to FNS' March 20, 2024, clarification of guidance on the use of non-merit personnel in the administration of SNAP. Compared to prior collections, there is a noticeable rise in reports of major changes involving the use of non-merit personnel and automated systems, such as robotic process automation (RPA) or bots in SNAP administration. Recent patterns show an increase in the number of State agencies implementing major changes and an increase in the frequency of submissions per State agency. The frequency and timing of major changes to program operations remain with individual State agencies. State agencies make such changes in operations based upon a variety of interrelated factors.

Prior to any major change to State operations, regulations at 7 CFR 272.15(a)(3) require State agencies to provide FNS with descriptive information regarding the major change and an analysis of its projected impact on program operations. In an effort to reduce the burden of this collection, FNS provides a template for State agencies to submit notification of major changes in SNAP design electronically through the Waiver Information Management System (WIMS).

FNS reviews State notifications to determine if the described changes in program operations meet the criteria at 272.15(b). Some State notifications do not meet the major change criteria outlined in regulation. However, if FNS determines the notification meets the major change criteria, regulations at 7 CFR 272.15(b)(1)-(6) require State agencies to collect and report monthly State-level data on application processing metrics, listed at 7 CFR 272.15(b)(1)(i)-(xvii). Although the data is generally State level, it may be more targeted. 7 CFR 272.15(b)(4) in part, specifies, “while the data elements outlined in paragraph (b)(2) of this section will generally be required to be reported on a statewide basis and at a sub-state level, major changes that are limited to localized areas, such as a county or project area, may only require reporting”.

State submissions of the reports are required beginning with the quarter prior to pilot/implementation of the major change continuing for one year after full implementation. 7 CFR 272.15(b)(2) in part, necessitates “data must be reported separately for households with elderly and/or disabled members”. All required data reporting related to the implementation of the major change in program design must be disaggregated to show separate results for households that include an elderly and/or disabled member. This separation ensures that FNS can assess the impact of the program change on vulnerable households.

When a State agency implements a major change that allows households to report changes or apply or reapply for SNAP through the use of a call center, 7 CFR 272.15(b)(4)(iv) requires the collection of specific information related to customer service impacts. This information must be submitted to FNS on a quarterly basis. FNS may require pilot data and statewide impact data for one year following full implementation. State agencies meet this requirement by submitting the information electronically via WIMS. In an effort to reduce the reporting burden, FNS provides standardized templates to facilitate the collection and submission of the required information.

Regulations at 272.15(b)(4) give FNS the authority to request additional data beyond the mandatory data reporting elements outlined at 272.15(b)(1)-(3). Depending on the nature of the major change, State agencies may be required to report more specific or timely information concerning impacts on payment accuracy, which may include additional caseload data focused on households with particular characteristics. FNS will collaborate with State agencies to determine what additional information is practicable and will require only the data that is necessary to evaluate the impact of the major change. FNS uses the data reported under these provisions to provide technical assistance, as needed, monitor the impact of State agency changes, and identify compliance or performance issues early.

7 CFR 272.15(a)(3) Initial analysis of major changes: Based upon FNS's experience over the last three years of the 53 State agencies affected by this data collection, an estimated 20 State agencies will notify FNS of two major changes annually and provide analysis of the projected impact. Assuming an average of two major changes per State agency per year, this results in approximately 40 initial annual analysis responses. At an estimated 60 hours per initial response, the total annual burden for this activity is 2,400 burden hours.

7 CFR 272.15(b)(1)-(3) Reports required without additional data collection: If FNS determines the State's notification qualifies as a major change, State agencies must submit quarterly reports to FNS that include the mandatory reporting elements outlined in 7 CFR 272.15(b)(1)-(3) and may be subject to additional requirements depending on the nature of the change. FNS projects that 33 of the 40 major change notifications expected each year would qualify as major changes in program design, thereby triggering mandatory quarterly reporting. All 33 of these major changes will require State agencies to collect and report data to FNS as specified in 7 CFR 272.15(b)(1)-(3). FNS estimates 20 (non-duplicated respondents) State agencies will submit reports for each of the 33 major changes on a quarterly basis, resulting in 132 annual responses. Some reprogramming of the State's SNAP eligibility system is expected to facilitate the production of the quarterly reports. Each report is estimated to require 70 hours of effort. The total annual burden for this activity is 9,240 hours.

7 CFR 272.15(b)(4)(iv) Impact of certain major changes on customer service: States that notify FNS of major changes related to SNAP call center operations must also collect and submit additional customer service-related data. FNS projects that 8 of the 33 major changes would require the State agency to provide customer service-related data. Therefore, FNS estimates 8 State agencies will submit this report quarterly for a total of 4 responses/reports annually, totaling 32 annual responses. At an estimated 50 hours per report, the total annual burden for this activity is 1,600 hours.

7 CFR 272.15(b)(4) Reports required with additional data collection: FNS estimates that one State agency will be required to report additional data on a quarterly basis for a total of 4 annual responses/reports. At an estimated 70 hours per report, the total annual burden for this activity is 280 hours.

FNS estimates that 20 State agencies will report a total of 40 major changes. Thirty-three of the 40 will qualify as major changes in SNAP design. Based on the required quarterly reporting, FNS estimates 132 responses for major changes, an additional 32 customer service-related responses for States with call center operations, and 4 responses for States required to submit additional data, State agencies will submit a total of 208 total annual responses. Considering 2,400 hours for States to notify FNS of major changes in SNAP design, the 9,240 hours for reports required without additional data, 1,600 hours for reports that contain call center operations, and 280 hours for reports required with additional data are added, the total for the 20 State agencies is 13,520 total annual burden hours.

Additional information: The previously approved collection is titled “Major Changes in Program Design and Management Evaluations”; however, the most appropriate title is “Major Changes in Program Design”. Since management evaluation information is not collected under this request, the change in the title captures the nature of the information collection request. Management evaluation data is collected under OMB control number 0584-0010, expiration 8/31/2026. The previously approved collection included 13 respondents (State agencies), 85 responses (Appendices C through E and additional collection), and 8,860 annual burden hours. FNS estimates the revised burden includes 20 respondents (State agencies), 208 responses (Appendices C through E and additional collection), and 13,520 total annual burden hours. The revision in burden hours is based on an expected increased number of respondents from 13 to 20 and frequency in responses from one to two. The number of responses to mandatory quarterly reporting increased from 32 annual responses to 132 annual responses, the number of responses to quarterly reporting for call center modifications increased from 20 responses to 32 annual responses, and the number of responses for reporting in addition to mandatory reports decreased from 20 annual responses to 4 annual responses. The overall total annual burden hours have increased from 8,860 to 13,520. FNS is requesting to increase the burden estimates to account for increases in State agencies implementing major changes in non-merit personnel, in response to FNS' March 20, 2024, clarification of guidance on the use of non-merit personnel in the administration of SNAP. State agencies also increased reliance on automated systems, such as robotic process automation (RPA) or bots as a result of FNS' January 10, 2024, guidance on the use of advanced automation in SNAP. Additional data collection on advanced automation is necessary to identify and correct any adverse effect on program integrity or access including access by vulnerable households.

This information collection does not contain burden associated with record keeping and/or third-party public disclosures.

Summary of Burden Hours

Reporting

Affected Public: State agencies.

Estimated Number of Respondents: 20. An average of 20 State agencies notify FNS of major change in SNAP design per year. This represents an increase from the previous information collection based on recent trends and focuses on innovative and modernized systems.

Estimated Number of Responses per Respondent: 10. This represents an increase from the previous information collection based on recent trends and focuses on non-merit staff use, innovative and modernized systems.

Estimated Total Annual Responses: 208. This represents an increase from the previous information collection based on recent trends.

Estimated Time per Response: 65. State agencies have not reported changes to the estimated time per response since the last review. However, the number of responses with additional data reporting decreased, therefore, the estimated time per response decreased to 65 hours per response.

Estimated Total Annual Burden on Respondents: 13,520.

Respondent category (affected public) | Type of respondents (optional) | Burden activity | Forms/instruments (optional column) | CFR citation (optional column) | Estimated number of respondents | Responses per respondent (Col. H/F) | Total annual responses (Col. F × G) | Estimated hours per response (Col. J/H) | Estimated total burden hours (Col. H × I)
State Government | State, Local, and Tribal Governments | Major Change | Major Changes Notification Template | 7 CFR 272.15(a)(3) | 20 | 2 | 40 | 60 | 2,400
|  |  | Major Changes Quarterly Reporting Template (Appendix D) | 7 CFR 272.15(b)(1)-(3) | 33 | 4 | 132 | 70 | 9,240
|  |  | Major Changes Quarterly Reporting Template for Call Center Modifications | 7 CFR 272.15(b)(4)(iv) | 8 | 4 | 32 | 50 | 1,600
|  |  |  | 7 CFR 272.15(b)(4) | 1 | 4 | 4 | 70 | 280
State Government Sub-Total | State Agency Subtotal Reporting |  |  |  | 20 | 10 | 208 | 65 | 13,520

Patrick A. Penn,
Acting Administrator, Supplemental Nutrition Assistance Program, Food and Nutrition Service, U.S. Department of Agriculture.

[FR Doc. 2026-00091 Filed 1-6-26; 8:45 am]

BILLING CODE 3410-30-P